DEPARTMENT OF ENERGY

Federal Energy Regulatory Commission

Notice of Intent To Prepare an Environmental Assessment for the Proposed Pomelo Connector Pipeline and South Texas Expansion Project; Request for Comments on Environmental Issues

| Docket No.
Pomelo Connector, LLC | CP17-26-000
Texas Eastern Transmission, LP | CP15-499-000 CP15-499-001

The staff of the Federal Energy Regulatory Commission (FERC or Commission) will prepare an environmental assessment (EA) that will discuss the environmental impacts of the Pomelo Connector Pipeline Project (Pomelo Pipeline) and the South Texas Expansion Project (STEP), collectively referred to as the Projects. These separate, but connected, interstate natural gas transmission projects involve the construction and operation of facilities by Pomelo Connector, LLC (Pomelo) and Texas Eastern Transmission, LP (Texas Eastern) in Nueces, Matagorda, Chambers, Orange and Brazoria Counties, Texas. The Commission will use this EA in its decision-making process to determine whether the Projects are in the public convenience and necessity.

This notice announces the opening of the scoping process the Commission will use to gather input from the public and interested agencies on the Projects. You can make a difference by providing us with your specific comments or concerns about the Projects. Your comments should focus on the potential environmental effects, reasonable alternatives, and measures to avoid or lessen environmental impacts. Your input will help the Commission staff determine what issues they need to evaluate in the EA. To ensure that your comments are timely and properly recorded, please send your comments so that the Commission receives them in Washington, DC, on or before May 8, 2017.

This notice is being sent to the Commission's current environmental mailing list for these Projects. State and local government representatives should notify their constituents of these proposed projects and encourage them to comment on their areas of concern.

If you are a landowner receiving this notice, a pipeline company representative may contact you about the acquisition of an easement to construct, operate, and maintain the proposed facilities. A company representative would seek to negotiate a mutually acceptable agreement. However, if the Commission approves the Projects, that approval conveys with it the right of eminent domain. Therefore, if easement negotiations fail to produce an agreement, the pipeline company could initiate condemnation proceedings where compensation would be determined in accordance with state law.

The “For Citizens” section of the FERC Web site (www.ferc.gov) provides more information about the FERC and the environmental review process. This section also includes information about getting involved in FERC jurisdictional projects, and a citizens' guide entitled “An Interstate Natural Gas Facility On My Land? What Do I Need to Know?” This guide addresses a number of frequently asked questions, including the use of eminent domain and how to participate in the Commission's proceedings.

Public Participation

For your convenience, there are three (3) methods you can use to submit your comments to the Commission. The Commission will provide equal consideration to all comments received. The Commission encourages electronic filing of comments and has expert staff available to assist you at (202) 502-8258 or FercOnlineSupport@ferc.gov. Please carefully follow these instructions so that your comments are properly recorded.

1) You can file your comments electronically using the eComment feature on the Commission's Web site (www.ferc.gov) under the link to Documents and Filings. This is an easy method for submitting brief, text-only comments on a project;

2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the appropriate Project docket number (CP17-26-000 and/or CP15-499-000) with your submission: Kimberly D. Bose, Secretary, Federal Energy Regulatory Commission, 888 First Street NE., Room 1A, Washington, DC 20426.

Summary of the Proposed Projects

The Pomelo Pipeline is designed to provide up to 400,000 dekatherms per day (Dth/d) of firm transportation service from an interconnection with Texas Eastern at the proposed Pomelo Petronila Compressor Station to an intrastate header system, the Nueces Header. The Nueces Header is designed to connect with various pipelines and gathering facilities in Nueces County, Texas. Pomelo proposes to construct and operate the following facilities:

• Approximately 13.6 miles of new 30-inch-diameter natural gas pipeline;

• approximately 0.2 mile of new 30-inch-diameter pipeline;

• a new 5,000 horsepower (hp) compressor station (Pomelo Compressor Station); and

• associated aboveground facilities.

Through the new interconnection with the Pomelo Pipeline, Texas Eastern plans to provide approximately 396,000 Dth/d of firm natural gas transportation service to an interconnection with the Nueces Header. Texas Eastern proposes to install, construct, and operate the following facilities, all within existing Texas Eastern compressor stations:

• a new 8,400 hp compressor unit, appurtenant facilities, a new interconnection with Pomelo Connector Pipeline, and construction of a gas measurement enclosure at Texas Eastern's existing Petronila Compressor Station in Nueces County;

• A new 8,400 hp compressor unit, a new control building, new gas coolers and station piping modifications to reverse compression at the existing Blessing Compressor Station in Matagorda County;

• upgrades to existing compression facilities to reduce emissions, new gas measurement enclosure, and piping modifications to the existing launcher/receiver on Line 16 at the existing Mont Belvieu Compressor Station in Chambers County;

• piping modifications to the existing launcher/receiver on Line 16, and a new gas measurement enclosure within the existing Vidor Compressor Station in Orange County; and

• piping modifications to the existing launcher/receiver on Line 16 at the existing Angleton Station property in Brazoria County.

The general locations of the Project facilities are shown in Appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Constructing the proposed facilities would require the use of approximately 313.1 acres of land. This includes disturbance of approximately 190.9 acres of land for the aboveground facilities and the pipeline for Pomelo Pipeline; and approximately 122.2 acres of disturbance for STEP. Following construction, Pomelo and Texas Eastern would maintain about 136.8 acres for permanent operation of the Projects' facilities; the remaining acreage would be restored and allowed to revert to former uses.

Related Facilities

The proposed Valley Crossing System is a new intrastate pipeline system consisting of approximately 165 miles of 42- and 48-inch-diameter pipeline, two compressor stations, multiple meter stations, and ancillary facilities extending from the Nueces Header, to a point in the Gulf of Mexico in Texas state waters at the international boundary between the United States and Mexico. These intrastate facilities would be subject to the jurisdiction of the Railroad Commission of Texas and would be non-jurisdictional to the FERC. Although the Commission has no authority to approve or deny the Valley Crossing System, and no ability to require any avoidance or minimization of related impacts, we intend to disclose available resource impact information for the Valley Crossing System in the EA to inform stakeholders and decision makers.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the construction and operation of the proposed Projects under these general headings:

• Geology and soils;

• land use;

• water resources, fisheries, and wetlands;

• cultural resources;

• socioeconomics

• vegetation and wildlife;

• air quality and noise;

• endangered and threatened species;

• public safety; and

• cumulative impacts.

We will also evaluate reasonable alternatives to the proposed Projects or portions of the Projects, and make recommendations on how to lessen or avoid impacts on the various resource areas.

The EA will present our independent analysis of the issues. The EA will be available in the public record through the Commission's eLibrary. Depending on the comments received during the scoping process, we may also publish and distribute the EA to the public for an allotted comment period. We will consider all comments on the EA before making our recommendations to the Commission. To ensure we have the opportunity to consider and address your comments, please carefully follow the instructions in the Public Participation section.

With this notice, we are asking agencies with jurisdiction by law and/or special expertise with respect to the environmental issues of the Projects to formally cooperate with us in the preparation of the EA.³ Agencies that would like to request cooperating agency status should follow the instructions for filing comments provided under the Public Participation section of this notice. Currently, no agencies have expressed their intention to participate as a cooperating agency in the preparation of the EA to satisfy their NEPA responsibilities related to the Projects.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office (SHPO), and to solicit their views and those of other government agencies, interested Indian tribes, and the public on the Projects' potential effects on historic properties.⁴ We will define the Project-specific Area of Potential Effects (APE) in consultation with the SHPO as the Projects develop. On natural gas facility projects, the APE at a minimum encompasses all areas subject to ground disturbance (examples include construction right-of-way, contractor/pipe storage yards, compressor stations, and access roads). Our EA for these Projects will document our findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily, or who own homes within certain distances of aboveground facilities, and anyone who submits comments on the Projects. We will update the environmental mailing list as the analysis proceeds to ensure that we send the information related to this environmental review to all individuals, organizations, and government entities interested in and/or potentially affected by the proposed Projects.

If we publish and distribute the EA, copies of the EA will be sent to the environmental mailing list for public review and comment. If you would prefer to receive a paper copy of the document instead of the CD version or would like to remove your name from the mailing list, please return the attached Information Request (Appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the “Document-less Intervention Guide” under the “e-filing” link on the Commission's Web site. Motions to intervene are more fully described at http://www.ferc.gov/resources/guides/how-to/intervene.asp.

Additional Information

Additional information about the Projects are available from the Commission's Office of External Affairs, at (866) 208-FERC, or on the FERC Web site at www.ferc.gov using the “eLibrary” link. Click on the eLibrary link, click on “General Search” and enter the appropriate docket number, excluding the last three digits in the Docket Number field (i.e., CP17-26 and CP-15-499). Be sure you have selected an appropriate date range. For assistance, please contact FERC Online Support at FercOnlineSupport@ferc.gov or toll free at (866) 208-3676, or for teletype/TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, site visits or other staff activities will be posted on the Commission's calendar located at www.ferc.gov/EventCalendar/EventsList.aspx along with other related information.

Dated: April 6, 2017.
Kimberly D. Bose,
Secretary.

[FR Doc. 2017-07353 Filed 4-11-17; 8:45 am]

BILLING CODE 6717-01-P